DEPARTMENT OF HEALTH AND HUMAN SERVICES

Centers for Disease Control and Prevention

[60Day-07-07AM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Study to Examine Web-Based Administration of the Youth Risk Behavior Survey—New—National Center for Chronic Disease Prevention and Health Promotion (NCCDPHP), Centers for Disease Control and Prevention (CDC).

Background and Brief Description

The Youth Risk Behavior Survey (YRBS) has been conducted biennially since 1991 using paper-and-pencil questionnaires in schools. Because of technological improvements in survey research methods, CDC is considering changing to Web-based administration of the YRBS. Because YRBS is the only national source of data for at least 10 national health objectives in Healthy People 2010, it is critical to understand (1) whether it is feasible to change to web-based administration, and (2) how a change to web-based administration, both with and without the use of skip patterns in the questionnaire, might affect prevalence estimates of the priority health risk behaviors reported in the YRBS.

CDC is proposing two studies to address these issues. The first study is a survey of U.S. high school principals, using a questionnaire designed to assess the feasibility and burden of web-based administration in schools. The second study is a survey of approximately 6000 9th- and 10th-grade students attending schools in the United States, using the YRBS questionnaire. In the second study, students will be assigned randomly to one of the following conditions: (1) Paper-and-pencil group administration without skip patterns, (2) web-based group administration without skip patterns, (3) web-based group administration with skip patterns, and (4) web-based individual administration without skip patterns. An additional 1500 9th- and 10th-grade students assigned to condition #4 will participate in a sub-study to assess how incentives affect participation rates.

There are no costs to respondents except their time to participate in the survey and, in the case of school administrators, to assist in school recruitment.

Estimated Annualized Burden Hours
Respondents | Number of respondents | Number of responses per respondent | Average burden per response (in hrs.) | Total burden (in hours)
High school students | 7500 | 1 | 45/60 | 5625
High school principals | 600 | 1 | 25/60 | 250
School administrators | 210 | 1 | 30/60 | 105
Total |  |  |  | 5980

Dated: February 28, 2007.
Joan F. Karr,
Acting Reports Clearance Officer, Centers for Disease Control and Prevention.

[FR Doc. E7-3851 Filed 3-5-07; 8:45 am]

BILLING CODE 4163-18-P